DEPARTMENT OF AGRICULTURE

Rural Business-Cooperative Service

Notice of Funding Availability for the Intermediary Relending Program

AGENCY: Rural Business-Cooperative Service, USDA.

ACTION: Notice.

SUMMARY: This Notice announces $18.9 million in program funding available for Fiscal Year 2014 for the Intermediary Relending Program (IRP). The IRP provides direct loans to intermediaries that establish programs for the purpose of providing loans to ultimate recipients for business facilities and community developments in a rural area. The Agency will make awards each of the remaining Federal fiscal quarters. In the event all program funds are not obligated in a quarter, the remaining unobligated funds will be carried over to the subsequent quarter.

This Notice is being issued in accordance with the new requirements set forth by the Agricultural Act of 2014 (Farm Bill). The 2014 Farm Bill consolidates IRP's authority under the Consolidated Farm and Rural Development Act (Con Act). Consequently, the Agency must comply with the standard `rural' and `rural area' definition in the Con Act under 7 U.S.C. 1991(a)(13).

DATES: For Fiscal Year 2014, applications for regular IRP funding must be received by June 30, 2014, for consideration for Fiscal Year 2014 funds. Requests for set-aside funding must be received by June 19, 2014. Other than the Rural Economic Area Partnership (REAP) set-aside, unused set-aside funding described below will be pooled and revert to the national reserve on July 1, 2014. The REAP set-aside will terminate after August 15, 2014. Any unused REAP set-aside will revert to the national reserve thereafter. Applications received after June 30, 2014, may be considered for funding in Fiscal Year 2014, subject to availability of funds or will be considered for award of funds available in the first quarter of Fiscal Year 2015, if the Agency determines that program requirements remain substantially unchanged.

ADDRESSES: See the SUPPLEMENTARY INFORMATION for addresses concerning IRP applications for Fiscal Year 2014 funds.

FOR FURTHER INFORMATION CONTACT: For further information on this Notice, please contact the U.S. Department of Agriculture (USDA) Rural Development State Office for your respective State, as provided in the SUPPLEMENTARY INFORMATION section of this Notice.

SUPPLEMENTARY INFORMATION:

Fiscal Year 2014 Applications for the Intermediary Relending Program

Applications. Applications and forms may be obtained from any Rural Development State Office. Applicants must submit an original complete application to the USDA Rural Development State Office in the State where the applicant's project is located. A list of the USDA Rural Development State Offices addresses and telephone numbers can be found online at: http://www.rurdev.usda.gov/StateOfficeAddresses.html.

Paperwork Reduction Act

In accordance with the Paperwork Reduction Act, the information collection requirements associated with the IRP, as covered in this Notice, has been approved by the Office of Management and Budget (OMB) under OMB Control Number 0570-0062.

Overview

Federal Agency Name: Rural Business-Cooperative Service.

Solicitation Opportunity Title: Intermediary Relending Program.

Announcement Type: Initial announcement.

Catalog of Federal Domestic Assistance Number. The Catalog of Federal Domestic Assistance Number for this Notice is 10.767.

DATES: Completed applications must be received in the USDA Rural Development State Offices no later than the Federal fiscal quarter deadline of June 30, 2014, to be considered for funds available in Fiscal Year 2014. Requests for set-aside funding must be received by June 19, 2014. Other than the REAP set-aside, unused set-aside funding will be pooled and revert to the national reserve on July 1, 2014. The REAP set-aside will be pooled and revert to the national reserve on August 16, 2014. Applications received after the FY 2014 Federal fiscal quarter deadline will be considered for award with other carryover applications for funds available in the first quarter of Fiscal Year 2015 provided the Agency determines that program requirements remain substantially unchanged.

Availability of Notice and Rule. This Notice for the IRP is available on the USDA Rural Development Web site at http://www.rurdev.usda.gov/BCP_IRP.html.

I. Funding Opportunity Description

A. Purpose of the Intermediary Relending Program. The program purpose is to provide direct loans to intermediaries that establish programs for the purpose of providing loans to ultimate recipients for business facilities and community developments in a `rural' area, as defined in 7 U.S.C. 1991(a)(13).

B. Statutory Authority. This program is authorized by Section 6017 of the Farm Bill.

C. Definition of Terms. Other than as provided herein, the definitions applicable to this Notice are published at 7 CFR 4274.302.

II. Award Information

A. Type of Award: Loan

B. Fiscal Year Funds: FY 2014

C. Funding Availability: The Agency has available a program level in Fiscal Year 2014 of $18.9 million. Of this total, $2.457 million is be available for Native American Set-Aside, $4.725 million is available for Mississippi Delta Region Counties Set-Aside, and $2.314 million is available for Rural Economic Area Partnership (REAP) zones Set-Aside.

Requests for set-aside funding must be received by June 19, 2014. Except for the REAP set-aside, unused set-aside funding will be pooled and revert to the national reserve on July 1, 2014. The REAP set-aside will be pooled and revert to the national reserve on August 16, 2014. IRP regular funding must be obligated by September 30, 2014.

D. Approximate Number of Awards: 25

E. Awards: Intermediaries submitting a loan request may receive a maximum award up to $1 million. Requests for set-aside funding may receive a maximum award up to $1 million.

F. Anticipated Award Dates:

• August 31, 2014, for applications received by June 30, 2014.

III. Eligibility Information

A. Eligible Applicants. To be eligible for this program, the applicant must meet the eligibility requirements in 7 CFR 4274.307. Loan applications submitted and approved for funding by the Agency prior to February 7, 2014, are eligible under the “rural area” definition at 7 CFR 4274.302. All other applications must meet the definition of “rural” or “rural area” as described in 7 U.S.C. 1991(a)(13) of the 2014 Consolidated Farm and Rural Development Act.

C. Cost Share Requirements. The IRP revolving fund share of the eligible project cost of an ultimate recipient's project funded under this Notice shall not exceed the lesser of (a) $250,000 or (b) 75 percent of the total cost of the ultimate recipient's project for which the loan is being made. The cost share requirement shall be met by the intermediary in accordance with the requirements specified in 7 CFR 4274.331(b).

D. Other Eligibility Requirements. Applications will only be accepted from eligible intermediaries as described in 7 CFR 4274.314(b). Awards each Federal 2014 fiscal quarter will be based on ranking with the highest ranking applications being funded first, subject to available funding.

E. Completeness Eligibility. All applications must be submitted as a complete application, in one package. Applications will not be considered for funding if they do not provide sufficient information to determine eligibility or are otherwise not suitable for evaluation. Such applications will be withdrawn.

IV. Fiscal Year 2014 Application and Submission Information

A. Application Submittal. Loan applications must be submitted in paper format. Applications may not be submitted by electronic mail.

Applications must be organized in the same order set forth in 7 CFR 4274.343(a). To ensure timely delivery, applicants are strongly encouraged to submit their applications using an overnight, express, or parcel delivery service.

All applicants must have a Dun and Bradstreet Data Universal Numbering System (DUNS) number, which can be obtained at no cost via a toll-free request line at 1-866-705-5711 or online at http://fedgov.dnb.com/webform. This also includes sub-recipients.

Please note that applicants can locate the downloadable application package for this program by the Catalog of Federal Domestic Assistance Number, which is 10.767.

B. Content and Form of Submission. An application must contain all of the required elements outlined in 7 CFR 4274.343(a). Each application must address the applicable scoring criteria presented in 7 CFR 4274.344(c).

C. Submission Dates and Times. The original complete application must be received by the USDA Rural Development State Office no later than 4:30 p.m. local time by the application deadline dates listed above, regardless of the postmark date, in order to be considered for funds available in that Federal 2014 fiscal quarter.

Unless withdrawn by the applicant and as long as the Agency determines that program requirements remain substantially unchanged, completed applications that have not yet been funded will be retained by the Agency for consideration in subsequent reviews through a total of four consecutive quarterly reviews. Applications that remain unfunded after four quarterly reviews, including the initial quarter in which the application was completed, will not be considered further for an award. The applicant must submit a new application at that time if it desires further funding consideration.

V. Application Review Information

Awards under this Notice will be made on a competitive basis. Each application received in the USDA Rural Development State Office will be reviewed, scored, and ranked in accordance with the program requirements. Applications will be scored based on the applicable scoring criteria contained in 7 CFR 4274.344(c).

VI. Award Administration Information

Successful applicants will receive notification for funding from the USDA Rural Development State Office. Applicants must comply with all applicable statutes and regulations before the award will be approved. Unsuccessful applications will receive notification by mail.

VII. Agency Contacts

For general questions about this Notice, please contact your USDA Rural Development State Office as provided in the Addresses section of this Notice.

Federal Funding Accountability and Transparency Act

All applicants, in accordance with 2 CFR part 25, must have a DUNS number, which can be obtained at no cost via a toll-free request line at 1-866-705-5711 or online at http://fedgov.dnb.com/webform. Similarly, all grant applicants must be registered in the System for Award Management (SAM) prior to submitting an application. Grant applicants may register for the SAM at http://www.sam.gov. All recipients of Federal financial assistance are required to report information about first-tier sub-awards and executive total compensation in accordance with 2 CFR part 170.

Nondiscrimination Statement

The U.S. Department of Agriculture (USDA) prohibits discrimination against its customers, employees, and applicants for employment on the basis of race, color, national origin, age, disability, sex, gender identity, religion, reprisal, and where applicable, political beliefs, marital status, familial or parental status, sexual orientation, or whether all or part of an individual's income is derived from any public assistance program, or protected genetic information in employment or in any program or activity conducted or funded by the Department (Not all prohibited bases will apply to all programs and/or employment activities.)

If you wish to file a Civil Rights program complaint of discrimination, complete the USDA Program Discrimination Complaint Form (PDF), found online at http://www.ascr.usda.gov/complaint_filing_cust.html, or at any USDA office, or call (866) 632-9992 to request the form. You may write a letter containing all of the information requested in the form. Send your completed complaint from or letter to us by mail at U.S. Department of Agriculture, Director, Office of Adjudication, 1400 Independence Avenue, SW., Washington, DC 20250-9410, by fax (202) 690-7442 or email at program.intake@usda.gov.

Individuals who are deaf, hard of hearing or have speech disabilities and wish to file either an EEO or program complaint please contact USDA through the Federal Relay Service at (800) 877-8339 or (800) 845-6136 (in Spanish.)

Persons with disabilities, who wish to file a program complaint, please see information above on how to contact us by mail directly or by email. If you require alternative means of communication for program information (e.g., Braille, large print, audiotape, etc.) please contact USDA's TARGET Center at (202) 720-2600 (voice and TDD.)

Dated: May 13, 2014.
Ashli Palmer,
Acting Administrator, Rural Business-Cooperative Service.

[FR Doc. 2014-11450 Filed 5-19-14; 8:45 am]

BILLING CODE 3410-XY-P